ENVIRONMENTAL PROTECTION AGENCY

40 CFR Part 52

[IN122-2; FRL-7133-6]

Approval and Promulgation of Implementation Plans; Indiana; Withdrawal of Direct Final Rule

AGENCY: Environmental Protection Agency (EPA).

ACTION: Withdrawal of direct final rule.

SUMMARY: Due to an adverse comment, the EPA is withdrawing the direct final rule revising Indiana's opacity rules (326 IAC Article 5). In the direct final rule published on November 30, 2001 (66 FR 59708), we stated that if we receive adverse comment by December 31, 2001, the rule would be withdrawn and not take effect. EPA subsequently received adverse comment. EPA will address the comment received in a subsequent final action based upon the proposed action also published on November 30, 2001 (66 FR 59757). EPA will not institute a second comment period on this action.

EFFECTIVE DATE: The direct final rule is withdrawn as of January 28, 2002.

FOR FURTHER INFORMATION CONTACT: Matt Rau, Environmental Engineer, Regulation Development Section, Air Programs Branch (AR-18J), U.S. Environmental Protection Agency, Region 5, 77 West Jackson Boulevard, Chicago, Illinois 60604, Telephone: (312) 886-6524.

List of Subjects in 40 CFR Part 52

Environmental protection, Air pollution control, Incorporation by reference, Intergovernmental relations, Particulate matter, Reporting and recordkeeping requirements.

Dated: January 15, 2002.
William E. Muno,
Acting Regional Administrator, Region 5.

PART 52—[AMENDED]

§ 52.770 [Amended]

Accordingly, the addition of 40 CFR 52.770(c)(146) is withdrawn as of January 28, 2002.

[FR Doc. 02-2010 Filed 1-25-02; 8:45 am]

BILLING CODE 6560-50-P